DEPARTMENT OF TRANSPORTATION

Federal Aviation Administration

14 CFR Part 39

[Docket No. FAA-2013-0638; Directorate Identifier 2013-SW-026-AD; Amendment 39-17519; AD 2013-15-03]

RIN 2120-AA64

Airworthiness Directives; Eurocopter France (Eurocopter) Helicopters

AGENCY: Federal Aviation Administration (FAA), Department of Transportation (DOT).

ACTION: Final rule; request for comments.

SUMMARY: We are adopting a new airworthiness directive (AD) for Eurocopter Model AS350B, AS350BA, AS350B1, AS350B2, AS350B3, AS350C, AS350D, and AS350D1 helicopters with a single hydraulic system and a certain hydraulic pump drive installed. This AD requires inspecting the hydraulic pump drive pulley bearing (pulley bearing) for leaks, rust, overheating, and condition. This AD is prompted by six reports of hydraulic pump drive belt failure caused by seizure of the pulley bearing. These actions are intended to prevent hydraulic pump drive belt failure, loss of hydraulic servo assistance, and subsequent loss of control of the helicopter.

DATES: This AD becomes effective August 8, 2013.

We must receive comments on this AD by September 23, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the foreign authority's AD, the economic evaluation, any comments received, and other information. The street address for the Docket Operations Office (telephone 800-647-5527) is in the ADDRESSES section. Comments will be available in the AD docket shortly after receipt.

For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Matt Wilbanks, Aviation Safety Engineer, Regulations and Policy Group, Rotorcraft Directorate, FAA, 2601 Meacham Blvd., Fort Worth, Texas 76137; telephone (817) 222-5110; email matt.wilbanks@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

The European Aviation Safety Agency (EASA), which is the Technical Agent for the Member States of the European Union, has issued EASA Emergency AD No. 2013-0044-E, dated February 27, 2013, to correct an unsafe condition for Eurocopter Model AS350B, AS350BA, AS350BB, AS350B1, AS350B2, AS350B3, and AS350D helicopters. EASA advises that six events were reported of hydraulic pump drive belt failure caused by seizure of the pulley bearing, and that a preliminary investigation concluded the installation of a new hydraulic pump drive (installed in accordance with Eurocopter modification 079566) may have caused excessive degradation. EASA further states that this condition, for helicopters with a single hydraulic system, can lead to loss of hydraulic servo assistance and an increase in pilot work load that requires landing as soon as possible. For these reasons, the EASA AD requires repetitive inspections of the hydraulic pump drive belt and pulley bearing and if required, replacing the hydraulic pump drive assembly.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs.

Related Service Information

Eurocopter issued AS350 Emergency Alert Service Bulletin No. 05.00.72, Revision 1, dated June 11, 2013 (EASB 05.00.72), for Model AS350B, AS350BA, AS350B1, AS350B2, AS350B3, ASAS350D, and for non-FAA type-certificated Models AS350L1 and AS350BB helicopters. EASB 05.00.72 describes procedures for inspecting the pulley bearing for leaking grease, condition of the lip seals, rust on the lip seals, evidence of overheating revealed by brown discoloring of the bearing, and for the condition of the sealing flanges. EASB 05.00.72 also describes procedures for rotating the bearing manually to determine if there are any friction points, brinelling, or noises from the bearing. EASB 05.00.72 requires these inspections within 10 hours time-in-service (TIS) for installed bearings with 165 or more hours TIS since installation. For bearings with less than 165 hours TIS since installation, EASB 05.00.72 requires inspecting the bearing upon reaching 165 hours TIS.

AD Requirements

This AD requires, for hydraulic pump drives with 165 or more hours TIS since installation, within 10 hours TIS and thereafter at intervals not exceeding 25 hours TIS, decoupling the pulley and inspecting the pulley bearing for leaking grease, a crack or tear in the lip seals, a run of rust on the lip seals, indication of overheating shown by brown coloring on the inner ring of the bearing, any distortion, impact, wear, a tear, a crack, or loss of grease on the sealing flanges, or for a friction point, brinelling, or noise from the bearing. If any of these conditions exist, this AD requires replacing the hydraulic pump drive assembly before further flight. If the hydraulic pump drive assembly is replaced, the repetitive inspection requirements of this AD still apply.

Interim Action

We consider this AD to be an interim action. Eurocopter is still investigating the cause of this condition. If a final action is later identified, we might consider additional rulemaking.

Costs of Compliance

We estimate that this AD will affect 36 helicopters of U.S. Registry. We estimate that operators may incur the following costs in order to comply with this AD.

At an average labor rate of $85 per hour, inspecting the bearing pulley would require about 1.5 work-hours, for a cost per helicopter of $128, and a total cost to U.S. operators of $4,608, per inspection cycle.

If required, replacing the hydraulic pump drive assembly would require about 1.5 work-hours, and required parts would cost about $8,543, for a total cost per helicopter of $8,671.

According to Eurocopter's service information, some of the costs of this AD may be covered under warranty, thereby reducing the cost impact on affected individuals. We do not control warranty coverage by Eurocopter. Accordingly, we have included all costs in our cost estimate.

FAA's Justification and Determination of the Effective Date

Providing an opportunity for public comments prior to adopting these AD requirements would delay implementing the safety actions needed to correct this known unsafe condition. Therefore, we find that the risk to the flying public justifies waiving notice and comment prior to the adoption of this rule because the required corrective actions must be accomplished within 10 hours TIS, a very short time period based on the average flight-hour utilization rate of these helicopters in the helicopter emergency medical service and air tour industries.

Since an unsafe condition exists that requires the immediate adoption of this AD, we determined that notice and opportunity for public comment before issuing this AD are impracticable and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-15-03 Eurocopter France (Eurocopter): Amendment 39-17519; Docket No. FAA-2013-0638; Directorate Identifier 2013-SW-026-AD.

(a) Applicability

This AD applies to Eurocopter Model AS350B, AS350BA, AS350B1, AS350B2, AS350B3, AS350C, AS350D and AS350D1 helicopters with a single hydraulic system and with a hydraulic pump drive installed in accordance with modification 079566 that has 165 or more hours time-in-service (TIS) since installation, certificated in any category.

(b) Unsafe Condition

This AD defines the unsafe condition as seizure of the hydraulic pump drive pulley bearing. This condition could result in hydraulic pump drive belt failure, loss of hydraulic servo assistance, and subsequent loss of control of the helicopter.

(c) Comments Due Date

We must receive comments on this AD by September 23, 2013.

(d) Effective Date

This AD becomes effective August 8, 2013.

(e) Compliance

You are responsible for performing each action required by this AD within the specified compliance time.

(f) Required Actions

Within 10 hours TIS, and thereafter at intervals not exceeding 25 hours TIS:

(1) Uncouple the pulley from the hydraulic pump.

(2) Using a mirror and a light, inspect the hydraulic pump drive pulley bearing (pulley bearing) for leaking grease from each lip seal of the four greasing orifices (lip seal) due to wear, a crack or tear in a lip seal, a run of rust on a lip seal, indication of overheating shown by brown coloring on the inner ring of the bearing, and for any distortion, impact, wear, a tear, a crack, or loss of grease on each sealing flange.

(3) Manually rotate the pulley bearing through several full turns and inspect for a friction point, brinelling, or a noise from the bearing.

(4) If there is any leaking grease from a lip seal, a crack or tear in a lip seal, a run of rust on a lip seal, indication of overheating shown by brown coloring on the inner ring of the bearing, or distortion, impact, wear, a tear, a crack, or loss of grease on a sealing flange, or a friction point, brinelling, or noise from the bearing, before further flight, replace the hydraulic pump drive assembly.

(g) Alternative Methods of Compliance (AMOCs)

(1) The Manager, Safety Management Group, FAA, may approve AMOCs for this AD. Send your proposal to: Matt Wilbanks, Aviation Safety Engineer, Regulations and Policy Group, Rotorcraft Directorate, FAA, 2601 Meacham Blvd., Fort Worth, Texas 76137; telephone (817) 222-5110; email matt.wilbanks@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Eurocopter AS350 Emergency Alert Service Bulletin No. 05.00.72, Revision 1, dated June 11, 2013, which is not incorporated by reference, contains additional information about the subject of this AD. For service information identified in this AD, contact American Eurocopter Corporation, 2701 N. Forum Drive, Grand Prairie, TX 75052; telephone (972) 641-0000 or (800) 232-0323; fax (972) 641-3775; or at http://www.eurocopter.com/techpub. You may review a copy of the service information at the FAA, Office of the Regional Counsel, Southwest Region, 2601 Meacham Blvd., Room 663, Fort Worth Texas 76137.

(2) The subject of this AD is addressed in European Aviation Safety Agency (EASA) Emergency AD No. 2013-0044-E, dated February 27, 2013. You may view the EASA AD in the AD docket on the Internet at http://www.regulations.gov.

(i) Subject

Joint Aircraft Service Component (JASC) Code: 2913: Hydraulic Pump, Main.

Issued in Fort Worth, Texas, on July 11, 2013.
Kim Smith,
Directorate Manager, Rotorcraft Directorate, Aircraft Certification Service.

[FR Doc. 2013-17622 Filed 7-23-13; 8:45 am]

BILLING CODE 4910-13-P